ENVIRONMENTAL PROTECTION AGENCY

40 CFR Parts 260 and 261

[EPA-HQ-RCRA-2010-0695; FRL-9461-8]

RIN 2050-AG60

Hazardous Waste Management System: Identification and Listing of Hazardous Waste: Carbon Dioxide (CO2) Streams in Geologic Sequestration Activities

AGENCY: Environmental Protection Agency (EPA).

ACTION: Technical correction.

SUMMARY: On August 8, 2011, the U.S. Environmental Protection Agency (EPA or the Agency) published a proposed rule in the Federal Register to revise the regulations for hazardous waste management under the Resource Conservation and Recovery Act (RCRA) to conditionally exclude carbon dioxide (CO2) streams that are hazardous from the definition of hazardous waste, provided these hazardous CO2 streams meet certain conditions. This correction is necessary because EPA published incorrect burden estimates in the Section VII.B. of the preamble to the proposed rule. However, EPA notes that the correct burden estimates were in the Information Collection Request (ICR) document prepared by EPA, submitted for approval to the Office of Management and Budget (OMB) under the Paperwork Reduction Act, and placed into the docket for the August 8, 2011 proposed rule.

DATES: Under the Paperwork Reduction Act, comments on the information collection provisions must be received by the Office of Management and Budget (OMB) on or before October 11, 2011.

ADDRESSES: Send comments to OMB at the Office of Information and Regulatory Affairs, Office of Management and Budget, 725 17th Street, NW., Washington, DC 20503, Attention: Desk Officer for EPA. In addition, send comments to EPA, identified by Docket ID No. EPA-HQ-RCRA-2010-0695, by one of the following methods:

• http://www.regulations.gov: Follow the online instructions for submitting comments.

• E-mail: rcra-docket@epa.gov.

• Fax: 202-566-9744.

• Mail: RCRA Docket, Environmental Protection Agency, Mailcode: 2822T, 1200 Pennsylvania Ave., NW., Washington, DC 20460. Please include a total of two copies. In addition, please mail a copy of your comments on the information collection provisions to the Office of Information and Regulatory Affairs, Office of Management and Budget, Attn: Desk Officer for EPA, 725 17th St., NW., Washington, DC 20503.

• Hand Delivery: Deliver two copies of your comments to EPA West Building, Room 3334, 1301 Constitution Avenue, NW., Washington, DC 20460. Such deliveries are only accepted during the Docket's normal hours of operation, and special arrangements should be made for deliveries of boxed information.

Instructions: Direct your comments to Docket ID No. EPA-HQ-RCRA-2010-0695. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the RCRA Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: Lyn Luben, Office of Resource Conservation and Recovery (5305P), Environmental Protection Agency, 1200 Pennsylvania Avenue, NW., Washington, DC 20460; telephone number: 703-308-0508; fax number: 703-308-7903; e-mail address: luben.lyn@epa.gov.

SUPPLEMENTARY INFORMATION:

On August 8, 2011, the U.S. Environmental Protection Agency (EPA or the Agency) published a proposed rule to revise the regulations for hazardous waste management under the Resource Conservation and Recovery Act (RCRA) to conditionally exclude carbon dioxide (CO2) streams that are hazardous from the definition of hazardous waste, provided these hazardous CO2 streams meet certain conditions. 76 FR 48073. Today's correction notice is necessary because EPA published incorrect burden estimates in the preamble to the proposed rule. See Section VII.B. of the preamble (Paperwork Reduction Act). 76 FR at 48090-91. EPA notes, however, that the correct burden estimates were in the Information Collection Request (ICR) document prepared by EPA, submitted for approval to the Office of Management and Budget under the Paperwork Reduction Act, 44 U.S.C. 3501 et seq., and placed into the docket for the August 8, 2011 proposed rule (EPA-HQ-RCRA-2010-0695). The ICR was assigned EPA ICR number 2421.01. The statement in the preamble referenced above, which begins with “EPA estimates * * *” in the first full paragraph of the first column on page 48091, should read as follows:

“EPA estimates the total annual burden to respondents under the new paperwork requirements to be 27 hours and $2,287. However, EPA also estimates an annual burden savings under the existing RCRA subtitle C paperwork requirements of 103 hours and $8,497. Thus, this would result in a net annual savings of 76 hours and $6,210. The bottom-line burden savings over three years is estimated to be 228 hours and $18,630.” The remainder of this paragraph is unchanged.

The public is invited to comment on this technical correction notice and/or the supporting ICR document (EPA ICR number 2421.01). The public docket for this rule (EPA-HQ-RCRA-2010-0695) includes the full ICR document. Please submit any comments related to this technical correction notice and/or the full ICR document to both EPA and OMB. EPA is allowing for comments on this technical correction notice and/or the supporting ICR document to be submitted up to 30 days after the publication of this technical correction notice in the Federal Register (see DATES section above), but is not changing the October 7, 2011 deadline for any non-ICR related comments on the August 8, 2011 proposed rule. The final rule will respond to any comments on the information collection requirements contained in this technical correction notice.

List of Subjects

40 CFR Part 260

Environmental protection, Administrative practice and procedure, Hazardous waste, Reporting and recordkeeping requirements.

40 CFR Part 261

Environmental protection, Hazardous waste, Solid waste, Recycling.

Dated: September 2, 2011.
Mathy Stanislaus,
Assistant Administrator, Office of Solid Waste and Emergency Response.

[FR Doc. 2011-23156 Filed 9-8-11; 8:45 am]

BILLING CODE 6560-50-P